DEPARTMENT OF ENERGY

Federal Energy Regulatory Commission

[Docket No. PF12-16-000]

Dominion Cove Point LNG, LP; Notice of Intent To Prepare an Environmental Assessment for the Planned Cove Point Liquefaction Project, Request for Comments on Environmental Issues, Notice of On-Site Environmental Review, and Notice of Public Scoping Meetings

The staff of the Federal Energy Regulatory Commission (FERC or Commission) will prepare an environmental assessment (EA) that will discuss the environmental impacts of the Cove Point Liquefaction Project (Project) involving construction and operation of facilities by Dominion Cove Point LNG, LP (Dominion) in Maryland and Virginia. This EA will be used by the Commission in its decision-making process to determine whether the construction and operation of the proposed facilities is in the public convenience and necessity.

This notice announces the opening of the scoping process the Commission will use to gather input from the public and interested agencies on the Project. Your input during the scoping process will help the Commission staff determine what issues need to be evaluated in the EA. The Commission staff will also use the scoping process to help determine whether preparation of an environmental impact statement is more appropriate for this Project based upon the potential significance of the anticipated levels of impact. Please note that the scoping period will close on October 24, 2012. This is not your only public input opportunity; please refer to the Environmental Review Process flow chart in Appendix 1.¹

¹ The appendices referenced in this notice are not being printed in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Comments may be submitted in written form or verbally. Further details on how to submit written comments are provided in the Public Participation section of this notice. In lieu of or in addition to sending written comments, you are invited to attend the public scoping meetings listed below.

Date and time | Location
Tuesday, October 9, 2012 7:00 p.m. Eastern | Patuxent High School Auditorium, 12485 Southern Connector Boulevard, Lusby, MD 20657, (410) 535-7865.
Wednesday, October 10, 2012 7:00 p.m. Eastern | Creighton's Corner Elementary School, Multi-Purpose Room, 23171 Minerva Drive, Ashburn, VA 20148, (703) 957-4480.

This notice is being sent to the Commission's current environmental mailing list for this Project. State and local government officials are asked to notify their constituents of this planned Project and encourage them to comment on their areas of concern.

On-Site Environmental Review

In addition to the public scoping meetings noticed above, the FERC staff will conduct an on-site review of environmental issues associated with the potential addition of compression at two existing compressor stations in Loudoun and Fairfax Counties, Virginia. You are invited to attend the on-site environmental review at the location listed below.

Date and time | Location
Wednesday, October 10, 2012 1:00 p.m. Eastern | Greene Mill Preserve Community Center, 41080 Solti Way, Leesburg, VA 20175.

Involvement of the U.S. Department of Energy

The FERC is the lead federal agency in preparing the EA to satisfy the requirements of the National Environmental Policy Act (NEPA). The U.S. Department of Energy, Office of Fossil Energy (DOE) has agreed to participate as a cooperating agency in the preparation of the EA to satisfy its NEPA responsibilities.

Under section 3 of the Natural Gas Act of 1938, as amended (NGA), 15 USC 717b, DOE would authorize the export of natural gas, including liquefied natural gas (LNG), to countries with which the United States has not entered into a free trade agreement providing for national treatment for trade in natural gas, unless it finds that the proposed export will not be consistent with the public interest. For the Project, the purpose and need for DOE action is to respond to Dominion's application filed with DOE on October 3, 2011 (FE Docket No. 11-128-LNG) seeking authorization to export domestic natural gas as LNG for a 25-year period commencing the earlier of the date of first export or six years from the date that the requested authorization is issued. DOE authorization of Dominion's application would allow the export of LNG to any country with the capacity to import LNG and with which trade is not prohibited by U.S. law or policy.

Summary of the Planned Project Before FERC

Dominion plans to add natural gas liquefaction and exportation capabilities to its existing Cove Point LNG Terminal located on the Chesapeake Bay in Lusby, Maryland. The liquefaction facilities would consist of new natural gas-fired turbines to drive the main refrigerant compressors, one or two LNG drive trains, and associated new and modified processing facilities. The Project would be capable of processing an average of 750 million standard cubic feet of natural gas per day for a nominal LNG train capacity of approximately 4.5 to 5 million tons per annum. As discussed below, all of the proposed liquefaction facilities would be located within the fenced, operating industrial area of the existing LNG terminal. Work at the LNG terminal would also include additional on-site power generation and minor modifications to the existing off-shore pier. The Project would not include new LNG storage tanks or an increase in the size and/or frequency of LNG marine traffic currently authorized for the Cove Point LNG Terminal.

To support construction of the liquefaction facilities, Dominion would utilize two nearby properties, referred to as Offsite Area A and Offsite Area B. Dominion is also considering relocating its administrative functions, currently located at the Cove Point LNG Terminal, to a nearby business park referred to as the Interrelated Area. The need to relocate the administrative functions and the location of the new administrative building within the business park remain under evaluation by Dominion.

The Cove Point Liquefaction Project would also include installing approximately 29,000 to 34,000 total horsepower of additional compression at its existing Loudoun Compressor Station in Loudoun County, Virginia and/or its existing Pleasant Valley Compressor Station in Fairfax County, Virginia. The amount and location of the additional compression would be based on customer requirements, which are being finalized.

Dominion plans to begin construction at the Cove Point LNG Terminal in March 2014, with compressor station expansion proposed to begin in March, 2016.

A map depicting the general location of the Project facilities and a detailed drawing depicting proposed activities near the Cove Point LNG Terminal are included in Appendix 2.

Land Requirements for Construction

Dominion is still in the planning phase for the Project and workspace requirements have not been finalized at this time. Excluding a conveyance to Calvert County Parks, the Cove Point LNG Terminal property encompasses approximately 925 acres, but Dominion would construct and operate the proposed liquefaction facilities on 40 to 60 acres within the fenceline of the 130-acre operating industrial area. Construction of the liquefaction facilities would also require the temporary use of 100 to 200 acres of land at Offsite Areas A and B, and construction of a new administration building would impact approximately 5 acres within the Interrelated Area. Construction at the existing Loudoun and/or Pleasant Valley Compressor Station sites would disturb up to approximately 40 acres of land within Dominion's property lines at each facility. In addition, Dominion would utilize up to approximately 75 acres of land at its nearby Leesburg Compressor Station to support construction at the Loudoun Compressor Station, if required.

The EA Process

The NEPA requires the Commission to take into account the environmental impacts that could result from an action whenever it considers the issuance of a Certificate of Public Convenience and Necessity. NEPA also requires us ² to discover and address concerns the public may have about proposals. This process is referred to as scoping. The main goal of the scoping process is to focus the analysis in the EA on the important environmental issues. By this notice, the Commission requests public comments on the scope of the issues to address in the EA. All comments received will be considered during the preparation of the EA.

² “Us,” “we,” and “our” refer to the environmental staff of the Commission's Office of Energy Projects.

In the EA we will discuss impacts that could occur as a result of the construction and operation of the planned Project under these general headings:

• Geology and soils;

• Water resources, fisheries, and wetlands;

• Vegetation, wildlife, and endangered and threatened species;

• Socioeconomics;

• Cultural resources;

• Land use and cumulative impacts;

• Air quality and noise; and

• Public safety.

We will also evaluate reasonable alternatives to the planned Project or portions of the Project, including the no action alternative, and make recommendations on how to lessen or avoid impacts on the various resource areas.

Although no formal application has been filed, we have already initiated our NEPA review under the Commission's Pre-filing Process. The purpose of the Pre-filing Process is to encourage early involvement of interested stakeholders and to identify and resolve issues before an application is filed with the FERC. As part of our pre-filing review, we have begun to contact some federal and state agencies to discuss their involvement in the scoping process and the preparation of the EA. In addition, representatives from FERC participated in the public open houses sponsored by Dominion in the Project area in July, 2012 to explain the environmental review process to interested stakeholders.

Our independent analysis of the issues will be presented in the EA. If the Commission staff determines the preparation of an EA is appropriate, the EA will be placed in the public record and be published and distributed to the public. A comment period will be allotted when the EA is noticed. We will consider all comments on the EA before we make our recommendations to the Commission. To ensure your comments are considered, please carefully follow the instructions in the Public Participation section beginning on page 6.

With this notice, we are asking agencies with jurisdiction and/or special expertise with respect to environmental issues to formally cooperate with us in the preparation of the EA. These agencies may choose to participate once they have evaluated the proposal relative to their responsibilities. Agencies that would like to request cooperating agency status should follow the instructions for filing comments provided under the Public Participation section of this notice. Currently, the DOE has expressed its intention to participate as a cooperating agency in the preparation of the EA to satisfy its NEPA responsibilities related to this Project.

Consultations Under Section 106 of the National Historic Preservation Act

In accordance with the Advisory Council on Historic Preservation's implementing regulations for section 106 of the National Historic Preservation Act, we are using this notice to initiate consultation with applicable State Historic Preservation Offices (SHPO), and to solicit their views and those of other government agencies, interested Indian tribes, and the public on the Project's potential effects on historic properties.³ We will define the Project-specific Area of Potential Effects (APE) in consultation with the SHPOs as the Project is further developed. On natural gas facility projects, the APE at a minimum encompasses all areas subject to ground disturbance (examples include construction right-of-way, contractor/pipe storage yards, compressor stations, and access roads). Our EA for this Project will document our findings on the impacts on historic properties and summarize the status of consultations under section 106.

³ The Advisory Council on Historic Preservation's regulations are at Title 36 of the Code of Federal Regulations, Part 800. Historic properties are defined in those regulations as any prehistoric or historic district, site, building, structure, or object included in or eligible for inclusion in the National Register for Historic Places.

Currently Identified Environmental Issues

We have already identified several issues that we think deserve attention based on a preliminary review of the planned facilities, the environmental information provided by Dominion, and comments received by the public. This preliminary list of issues may be changed based on your comments and our analysis:

• Construction and operational impacts on nearby residences in proximity to the existing LNG terminal and compressor stations;

• Impacts on forested land;

• Impacts on air quality and noise;

• Impacts on threatened and endangered species; and

• Public safety.

Public Participation

You can make a difference by providing us with your specific comments or concerns about the Project. Your comments should focus on the potential environmental effects, reasonable alternatives, and measures to avoid or lessen environmental impacts. The more specific your comments, the more useful they will be. To ensure that your comments are timely and properly recorded, please send your comments so that they will be received in Washington, DC on or before October 24, 2012.

For your convenience, there are four methods you can use to submit your comments to the Commission. In all instances, please reference the Project docket number (PF12-16-000) with your submission. The Commission encourages electronic filing of comments and has expert eFiling staff available to assist you at (202) 502-8258 or efiling@ferc.gov.

1. You can file your comments electronically by using the eComment feature, which is located on the Commission's Web site at www.ferc.gov under the link to Documents and Filings. This is an easy method for interested persons to submit brief, text-only comments on a project;

2. You can file your comments electronically by using the eFiling feature, which is located on the Commission's Web site at www.ferc.gov under the link to Documents and Filings. With eFiling, you can provide comments in a variety of formats by attaching them as a file with your submission. New eFiling users must first create an account by clicking on “eRegister.” You must select the type of filing you are making. If you are filing a comment on a particular project, please select “Comment on a Filing”;

3. You can attend and provide either oral or written comments at a public scoping meeting. A transcript of each meeting will be made so that your comments will be accurately recorded and included in the public record; or

4. You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for Project purposes, or who own homes within certain distances of aboveground facilities, and anyone who submits comments on the Project. We will update the environmental mailing list as the analysis proceeds to ensure that we send the information related to this environmental review to all individuals, organizations, and government entities interested in and/or potentially affected by the planned Project.

When an EA is published for distribution, copies will be sent to the environmental mailing list for public review and comment. If you would prefer to receive a paper copy of the document instead of the CD version, or would like to remove your name from the mailing list, please return the attached Information Request (Appendix 3).

Becoming an Intervenor

Once Dominion files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are included in the User's Guide under the “e-Filing” link on the Commission's Web site. Please note that the Commission will not accept requests for intervenor status at this time. You must wait until a formal application for the Project is filed with the Commission.

Additional Information

Additional information about the Project is available from the Commission's Office of External Affairs, at (866) 208-FERC, or on the FERC Web site (www.ferc.gov) using the eLibrary link. Click on the eLibrary link, click on “General Search” and enter the docket number, excluding the last three digits in the Docket Number field (i.e., PF12-16). Be sure you have selected an appropriate date range. For assistance, please contact FERC Online Support at FercOnlineSupport@ferc.gov or toll free at (866) 208-3676, or for TTY, contact (202) 502-8659. The eLibrary link also provides access to the text of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Public meetings or site visits will be posted on the Commission's calendar located at www.ferc.gov/EventCalendar/EventsList.aspx along with other related information.

Finally, Dominion has established a Web site for this Project at https://www.dom.com/business/gas-transmission/cove-point/liquefaction.jsp. The Web site includes a Project overview, environmental information, and information for affected stakeholders.

Dated: September 24, 2012.
Kimberly D. Bose,
Secretary.

[FR Doc. 2012-23933 Filed 9-27-12; 8:45 am]

BILLING CODE 6717-01-P